DEPARTMENT OF HEALTH AND HUMAN SERVICES

Health Resources and Services Administration

Discretionary Grant Program

AGENCY: Health Resources and Services Administration (HRSA), HHS.

ACTION: Notice of Noncompetitive Program Extension Supplemental Awards.

SUMMARY: HRSA will be issuing non-competitive supplemental funding under the Maternal Child and Health Bureau's Family to Family Health Information Centers Program. This will provide feasible time for the Maternal and Child Health Bureau (MCHB) to align fiscal resources and programmatic goals as outlined in changes that emerged as a result of enactment of the Patient Protection and Affordable Care Act (Pub. L. 111-148) with the least disruption to the States, communities, and constituencies that currently receive assistance and services from these grantees.

SUPPLEMENTARY INFORMATION: Intended Recipients of the Award: The 30 incumbent grantees (see list below).

Amount of the Non-Competitive Supplemental Funding: $97,500 per grantee.

Authority: Section 501(c)(1) of the Social Security Act, as amended.

CFDA Number: 93.110.

Project Period: June 1, 2010 through May 31, 2011 for a total of 12 months.

Justification for the Exception to Competition

The program provides grants to family-run/staffed organizations to ensure families of children with special health care needs have access to adequate information about health and community resources to allow informed decisions around their children's health care. Family to Family Health Information Centers (F2F HICs) were originally authorized under the Family Opportunity Act as part of the Budget Deficit Reduction Act of 2005; Pub. L. 109-171. Congress specified that there be a family-run/staffed center in each State and the District of Columbia by June 2009. These centers, among other tasks, were to assist families of children with special health care needs to make informed choices about health care in order to promote good treatment decisions, cost effectiveness and improved health outcomes by providing information and educational opportunities for families, their health professionals, schools, and other appropriate entities. Awards were staggered based upon available funding with 30 grantees awarded in 2007 with project periods ending May 31, 2010. As the end of their project period quickly approached and continued funding was not provided in the President's Budget for fiscal year (FY) 2010, MCHB prepared for closeout of the program.

Section 5507 of the Patient Protection and Affordable Care Act (the Affordable Care Act) extended the F2F HICs through FY 2012. Therefore, the MCHB will extend the project periods of the 30 aforementioned grants into FY 2011. This will provide sufficient fiscal resources to continue programmatic activities as outlined in legislation with the least disruption to the States, communities, and the MCHB constituencies that currently receive assistance and services from these grantees. The MCHB will also delay the competition for these grants until FY 2011 to ensure continuity of funding for all eligible entities, with no eligible entity being adversely impacted by the extension.

FOR FURTHER INFORMATION CONTACT: LaQuanta Person, Project Officer, Integrated Services Branch, Division of Services for Children with Special Health Needs, Maternal and Child Health Bureau, Health Resources and Services Administration, 5600 Fishers Lane, Room 18A-18, Rockville, MD 20857; 301.443.2370; lperson@hrsa.gov.

Maternal and Child Health Bureau Selected Grant Programs
[Extensions with funding]
Grantee/organization name | State | FY 2009 authorized funding level | Revised project end date
Raising Special Kids | AZ | $95,700 | 31-May-11.
Support for Families of Children w/Disabilities | CA | 95,700 | 31-May-11.
Family Voices of District of Columbia, Inc. | DC | 95,700 | 31-May-11.
Family Institute for Family Involvement | FL | 95,700 | 31-May-11.
Parent to Parent of Georgia, Inc. | GA | 95,700 | 31-May-11.
Hawaii Pediatric Association Research & Education Foundation | HI | 95,700 | 31-May-11.
The Arc of Illinois | IL | 95,700 | 31-May-11.
About Special Kids, Inc. | IN | 95,700 | 31-May-11.
Bayou Land Families Helping Families | LA | 95,700 | 31-May-11.
Federation for Children With Special Needs | MA | 95,700 | 31-May-11.
The Parent's Place of MD | MD | 95,700 | 31-May-11.
Maine Parent Federation | ME | 95,700 | 31-May-11.
Pacer Center Inc. | MN | 95,700 | 31-May-11.
University of Southern Mississippi | MS | 95,700 | 31-May-11.
Exceptional Children's Assistance Center | NC | 95,700 | 31-May-11.
Family Voices of North Dakota, Inc | ND | 95,700 | 31-May-11.
PTI Nebraska | NE | 95,700 | 31-May-11.
Statewide Parent Advocacy Network of New Jersey | NJ | 95,700 | 31-May-11.
Parents Reaching Out To Help | NM | 95,700 | 31-May-11.
Family TIES of Nevada, Inc | NV | 95,700 | 31-May-11.
Parent to Parent of NYS | NY | 95,700 | 31-May-11.
Oregon Family Support Network | OR | 95,700 | 31-May-11.
Parent Education & Advocacy Leadership Center | PA | 95,700 | 31-May-11.
Rhode Island Parent Information Network, Inc. | RI | 95,700 | 31-May-11.
South Dakota Parent Connection, Inc. | SD | 95,700 | 31-May-11.
Tennessee Disability Coalition | TN | 95,700 | 31-May-11.
Texas Parent to Parent | TX | 95,700 | 31-May-11.
Utah Parent Center | UT | 95,700 | 31-May-11.
Parent to Parent of Vermont | VT | 95,700 | 31-May-11.
The Arc Wisconsin Disability Association | WI | 95,700 | 31-May-11.

Dated: June 3, 2010.
Mary K. Wakefield,
Administrator.

[FR Doc. 2010-13788 Filed 6-8-10; 8:45 am]

BILLING CODE 4165-15-P